DEPARTMENT OF TRANSPORTATION

Federal Aviation Administration

14 CFR Part 39

[Docket No. 99-NM-376-AD; Amendment 39-11949; AD 2000-22-03]

RIN 2120-AA64

Airworthiness Directives; Raytheon Model DH.125, Model HS.125, Model BH.125, Model BAe.125 Series 800A (Including Major Variants C-29A and U1-25), Model Hawker 800, Model Hawker 800XP, and Model Hawker 1000 Series Airplanes

AGENCY: Federal Aviation Administration, DOT.

ACTION: Final rule.

SUMMARY: This amendment adopts a new airworthiness directive (AD), applicable to certain Raytheon Model DH.125, Model HS.125, Model BH.125, Model BAe.125 Series 800A, Model Hawker 800, Model Hawker 800XP, and Model Hawker 1000 series airplanes, that requires leak checks and inspections for corrosion of the pitot/static and stall vent drain valves, and replacement of certain components, if necessary. This amendment is prompted by reports of plugged or taped drain valves as well as consequent corrosion of certain drain valves. The actions specified by this AD are intended to prevent erroneous altimeter and airspeed indications due to plugged or taped pitot/static and stall vent drain valves.

DATES: Effective December 4, 2000.

The incorporation by reference of certain publications listed in the regulations is approved by the Director of the Federal Register as of December 4, 2000.

ADDRESSES: The service information referenced in this AD may be obtained from Raytheon Aircraft Company, Manager-Service Engineering, Hawker Customer Support Department, P. O. Box 85, Wichita, Kansas 67201-0085. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Paul DeVore, Aerospace Engineer, Systems and Propulsion Branch, ACE-116W, FAA, Wichita, Kansas 67209; telephone 316) 946-4142; fax (316) 946-4407.

SUPPLEMENTARY INFORMATION: A proposal to amend part 39 of the Federal Aviation Regulations (14 CFR part 39) to include an airworthiness directive (AD) that is applicable to certain Raytheon Model DH.125, Model HS.125, Model BH.125, Model BAe.125 Series 800A, Model Hawker 800, Model Hawker 800XP, and Model Hawker 100 series airplanes was published in the Federal Register on June 19, 2000 (65 FR 37922). That action proposed to require leak checks and inspections for corrosion of the pitot/static and stall vent drain valves, and replacement of certain components, if necessary.

Comments

Interested persons have been afforded an opportunity to participate in the making of this amendment. No comments were submitted in response to the proposal or the FAA's determination of the cost to the public.

Conclusion

The FAA has determined that air safety and the public interest require the adoption of the rule as proposed.

Cost Impact

There are approximately 900 airplanes of the affected design in the worldwide fleet. The FAA estimates that 585 airplanes of U.S. registry will be affected by this AD, that it will take approximately 4 work hours per airplane to accomplish the required actions, and that the average labor rate is $60 per work hour. Based on these figures, the cost impact of the AD on U.S. operators is estimated to be $140,400, or $240 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-22-03 Raytheon Aircraft Co. (Formerly Beech): Amendment 39-11949. Docket 99-NM-376-AD.

Applicability: Model DH.125, Model HS.125, Model BH.125, Model BAe.125, Model Hawker 800, Model Hawker 800XP, and Model Hawker 1000 series airplanes; as listed in Raytheon Aircraft Service Bulletin SB 34-3207, dated August 1999; excluding those airplanes on which all pitot/static drain vent valves have been modified with an insert in accordance with Raytheon Aircraft Repair Design Office instructions; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent erroneous altimeter and airspeed indications due to plugged or taped pitot/static and stall vent drain valves, accomplish the following:

Leak Tests

(a) Within 300 hours time-in-service after the effective date of this AD: Drain the pitot/static and stall vent drain valves, and perform a leak test of the systems, in accordance with Raytheon Aircraft Service Bulletin SB 34-3207, dated August 1999. If all drain valves are operating correctly and the leak test is passed successfully, thereafter, repeat the leak test at intervals not to exceed 300 hours time-in-service.

Drain Valves Operative, Leak Test Failed

(b) If all drain valves are operative, but any valve does not pass the leak test required by paragraph (a) of this AD: Prior to further flight, accomplish the actions specified in paragraph (b)(1), (b)(2), or (b)(3) of this AD.

(1) Apply a temporary seal of the drain valve(s) in accordance with Raytheon Aircraft Service Bulletin SB 34-3223, dated August 1999. Within 300 hours time-in-service after the accomplishment of the temporary seal, accomplish the requirements of paragraph (b)(2) or (b)(3) of this AD.

(2) Replace the drain valve components with new or serviceable drain valve components in accordance with Raytheon Aircraft Service Bulletin SB 34-3207, dated August 1999, and perform the leak test specified in paragraph (a) of this AD. Thereafter, repeat the requirements of paragraph (a) of this AD at intervals not to exceed 300 hours time-in-service.

(3) Modify the drain valves in accordance with Raytheon Aircraft Service Bulletin SB 34-3282, dated August 1999. Thereafter, repeat the requirements of paragraph (a) of this AD at intervals not to exceed 300 hours time-in-service unless all the drain valves have been modified. Accomplishment of this modification on ALL drain valves constitutes terminating action for the requirement to perform repetitive leak tests.

Drain Valves Inoperative

(c) If any drain valve is inoperative (e.g., plugged or taped), whether or not any leaking is detected: Prior to further flight, disassemble the valve and clean all obstructions in accordance with Raytheon Aircraft Service Bulletin SB 34-3207, dated August 1999, and perform a general visual inspection for corrosion of the drain valve.

Note 2: For the purposes of this AD, a general visual inspection is defined as: “A visual examination of an interior or exterior area, installation, or assembly to detect obvious damage, failure, or irregularity. This level of inspection is made under normally available lighting conditions such as daylight, hangar lighting, flashlight, or droplight, and may require removal or opening of access panels or doors. Stands, ladders, or platforms may be required to gain proximity to the area being checked.”

(d) If no corrosion of the drain valves is detected, prior to further flight, perform the actions specified in either paragraph (d)(1) or (d)(2) of this AD at the time specified.

(1) Perform the leak test specified in paragraph (a) of this AD, and thereafter, repeat the leak test requirements at intervals not to exceed 300 hours time-in-service.

(2) Prior to further flight, modify any inoperative valve in accordance with Raytheon Aircraft Service Bulletin SB 34-3282, dated August 1999. Thereafter, repeat the leak test requirements of paragraph (a) of this AD at intervals not to exceed 300 hours time-in-service. Modification of ALL the drain valves constitutes terminating action for the requirement to perform repetitive leak tests.

(e) If any drain valve is corroded, prior to further flight: Inspect the connecting tubing for corrosion and replace any corroded valve or tubing with a new or serviceable valve or tubing in accordance with Raytheon Aircraft Service Bulletin SB 34-3207, dated August 1999. Accomplish the actions of paragraph (e)(1) or (e)(2) of the AD at the time specified.

(1) Prior to further flight, perform the leak test specified in paragraph (a) of this AD, and thereafter, repeat the leak test requirements of paragraph (a) of this AD at intervals not to exceed 300 hours time-in-service.

(2) Prior to further flight, modify any replaced drain valve in accordance with Raytheon Aircraft Service Bulletin SB 34-3282, dated August 1999. Thereafter, repeat the leak test requirements of paragraph (a) of this AD at intervals not to exceed 300 hours time-in-service. Modification of ALL the drain valves constitutes terminating action for the requirement to perform repetitive leak tests.

Alternative Methods of Compliance

(f) An alternative method of compliance or adjustment of the compliance time that provides an acceptable level of safety may be used if approved by the Manager, Wichita Aircraft Certification Office (ACO), ACE-116W, FAA. Operators shall submit their requests through an appropriate FAA Principal Maintenance Inspector, who may add comments and then send it to the Manager, Wichita ACO.

Note 3: Information concerning the existence of approved alternative methods of compliance with this AD, if any, may be obtained from the Wichita ACO.

Special Flight Permit

(g) Special flight permits may be issued in accordance with sections 21.197 and 21.199 of the Federal Aviation Regulations (14 CFR 21.197 and 21.199) to operate the airplane to a location where the requirements of this AD can be accomplished.

Incorporation by Reference

(h) The actions shall be done in accordance with Raytheon Aircraft Service Bulletin SB 34-3207, dated August 1999; Raytheon Aircraft Service Bulletin SB 34-3223, dated August 1999; or Raytheon Aircraft Service Bulletin SB 34-3282, dated August 1999; as applicable. This incorporation by reference was approved by the Director of the Federal Register in accordance with 5 U.S.C. 552(a) and 1 CFR part 51. Copies may be obtained from Raytheon Aircraft Company, Manager-Service Engineering, Hawker Customer Support Department, P. O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(i) This amendment becomes effective on December 4, 2000.

Issued in Renton, Washington, on October 23, 2000.
Donald L. Riggin,
Acting Manager, Transport Airplane Directorate, Aircraft Certification Service.

[FR Doc. 00-27631 Filed 10-27-00; 8:45 am]

BILLING CODE 4910-13-U